DEPARTMENT OF DEFENSE

Office of the Secretary

[Transmittal No. 24-0Y]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0Y.

Dated: November 13, 2025.
Aaron T. Siegel,
Alternate OSD Federal Register Liaison Officer, Department of Defense.

Transmittal No. 24-0Y

REPORT OF ENHANCEMENT OR UPGRADE OF SENSITIVITY OF TECHNOLOGY OR CAPABILITY (SEC. 36(B)(5)(C), AECA)

(i) Purchaser: Government of Lithuania

(ii) Sec. 36(b)(1), AECA Transmittal No.: 23-75

Date: October 23, 2023

Implementing Agency: Air Force

Funding Source: National Funds

(iii) Description: On October 23, 2023, Congress was notified by congressional certification transmittal number 23-75 of the possible sale, under Section 36(b)(1) of the Arms Export Control Act, of thirty-six (36) AIM-120C-8 Advanced Medium Range Air to Air Missiles (AMRAAM); and one (1) AIM-120C-8 AMRAAM Guidance Section. Also included were Common Munitions Built-In-Test (BIT)/Reprogramming Equipment (CMBRE); ADU-891/E adapter group computer test sets; AIM-120 spare control sections and containers; other spare parts, consumables, accessories, and repair/return support; munitions support and support equipment; classified software delivery and support; classified and unclassified publications and technical documentation; contractor logistics support (CLS); personnel training and training equipment; studies and surveys; transportation support; U.S. Government and contractor engineering, technical and logistics support services; and other related elements of logistics and program support. The total estimated cost was $100 million. Major Defense Equipment (MDE) constituted $75.9 million of this total.

This transmittal notifies the inclusion of the following additional MDE items: twenty-four (24) AIM-120C-8 AMRAAM; and eight (8) AIM-120C-8 AMRAAM-Extended Range (AMRAAM-ER) missiles. The following non-MDE items will also be included: AMRAAM-ER load trainers; and weapon system support including software. The estimated total value of the new items is $80 million. The estimated MDE value will increase by $72 million to a revised $147.9 million. The estimated non-MDE value will increase by $8 million to a revised $32.1 million. The estimated total case value will increase by $80 million to a revised $180 million.

(iv) Significance: This notification is being provided because the additional items were not enumerated in the original notification. The proposed sale will support Lithuania's commercial purchase of the National Advanced Surface-to-Air Missile System (NASAMS).

(v) Justification: This proposed sale will support the foreign policy and national security of the United States by helping to improve the security of a NATO Ally that is an important force for ensuring peace and stability in Europe.

(vi) Sensitivity of Technology: The AIM-120 AMRAAM-ER is a medium range, ground-based, air defense missile capable in all-weather against multiple targets in a sophisticated electronic attack environment. AMRAAM-ER utilizes an active C-7 or C-8 seeker and warhead joined with a new control section and rocket motor that provides extended range and altitude, higher speed and maneuverability, and has been extensively tested and proven. The AIM-120C-8 is a form, fit, function refresh of the AIM-120C-7 and is the next generation to be produced.

The Sensitivity of Technology Statement contained in the original notification applies to the additional items being notified.

The highest level of classification of defense articles, components, and services included in this potential sale is SECRET.

(vii) Date Report Delivered to Congress: October 4, 2024

[FR Doc. 2025-20040 Filed 11-17-25; 8:45 am]

BILLING CODE 6001-FR-P